DEPARTMENT OF ENERGY

Federal Energy Regulatory Commission

[Docket No. CP07-52-000; Downeast Pipeline, LLC, Docket Nos. CP07-53-000, CP07-54-000, CP07-55-000]

Downeast LNG, Inc.; Notice of Applications for Certificates of Public Convenience and Necessity and Section 3 Authorization

December 29, 2006.

Take notice that on December 22, 2006, Downeast LNG, Inc. (Downeast LNG), 748 U.S. Route 1, Robbinston, Maine 04671, filed an application in Docket No. CP07-52-000 pursuant to section 3(a) of the Natural Gas Act (NGA), and Parts 153 and 380 of the regulations of the Federal Energy Regulatory Commission (Commission), 18 CFR Parts 153 and 380, for authorization to site, construct and operate a liquefied natural gas (LNG) receiving terminal and associated facilities to be located in Washington County, Maine as a place of entry for the importation of LNG.

Also take notice that on December 22, 2006, Downeast Pipeline, LLC (Downeast Pipeline), 748 U.S. Route 1, Robbinston, Maine 04671, filed pursuant to Section 7(c) of the NGA and the Commission's regulations; (1) an application in Docket No. CP07-53-000 for a certificate of public convenience and necessity; (i) authorizing Downeast Pipeline to construct, own and operate the Downeast Pipeline under Part 157, Subpart A of the Commission's regulations, (ii) approving the pro forma Tariff submitted as Exhibit P of the application, and (iii) approving the proposed initial rates for pipeline transportation services; (2) an application in Docket No. CP07-54-000, for a blanket certificate authorizing Downeast Pipeline to engage in certain self-implementing routine activities under Part 157, Subpart F, of the Commission's regulations; and (3) an application in Docket No. CP07-55-000, for a blanket certificate authorizing Downeast Pipeline to transport natural gas, on an open access and self-implementing basis, under Part 284, Subpart G of the Commission's regulations.

Any questions regarding these applications should be directed to Dean Girdis, Downeast LNG, Inc., 748 U.S. Route 1, Robbinston, ME 04671 or Lisa M. Tonery, King & Spalding LLP, 1185 Avenue of the Americas, New York, NY 10036.

These filings are available for review at the Commission's Washington, DC offices or may be viewed on the Commission's Web site at http://www.ferc.gov/ using the “e-Library” link. Enter the docket number, excluding the last three digits, in the docket number field to access the document. For assistance, please contact FERC Online Support at ferconlinesupport@ferc.gov or Telephone: 202-502-6652; Toll-free: 1-866-208-3676; or for TTY, contact (202) 502-8659.

On January 25, 2006, the Commission Staff granted Downeast LNG's request to utilize the Pre-Filing process and assigned Docket No. PF06-13-000 to Staff activities involving the Downeast LNG import terminal project and Downeast Pipeline's proposed pipeline. Now, as of the filing of this application on December 22, 2006, the Pre-Filing Process for this project has ended. From this time forward, these proceedings will be conducted in Dockets No. CP07-52-000, CP07-52-000, CP07-54-000, and CP07-55-000 as noted in the caption of this Notice.

Downeast LNG is seeking authorization pursuant to Section 3(a) of the NGA to site, construct and operate: (1) An LNG receiving facility (including docking facilities and associated piping appurtenances); and (2) an LNG storage and vaporization facility (including two LNG storage tanks, each with a storage capacity of 160,000 cubic meters, vaporization units with an average capacity of 500,000 Mcf/d and peak capacity 625,000 Mcf/d, and associated piping and control equipment).

Downeast Pipeline proposes to construct about 31 miles of single 30-inch diameter pipeline. The proposed Pipeline will originate at the Import Terminal site boundary and terminate in the vicinity of the Maritimes and Northeast Pipeline at the existing Baileyville Compressor Station in Baileyville, Maine. The proposed Pipeline facilities will include pig launcher and receiver traps, mainline valves and interconnection and metering facilities, and will be designed for maximum allowable operating pressure of 1,580 psig and capacity of up to 625,000 Mcf/d, as more fully described in the filing.

Pursuant to Section 157.9 of the Commission's rules, 18 CFR 157.9 and to ensure compliance with the Energy Policy Act of 2005, the Commission Staff will issue a Notice of Schedule for Environmental Review within 90 days of the date of this Notice. The Notice of Schedule for Environmental Review will indicate, among other milestones, the anticipated date for the Commission Staff's issuance of the final environmental impact statement (FEIS) for the Downeast LNG's and Downeast Pipeline's proposals. The Notice of Schedule for Environmental Review will also alert other agencies of the requirement to complete necessary reviews and authorizations within 90 days of the date of issuance of the Commission Staff's FEIS.

There are two ways to become involved in the Commission's review of this Project. First, any person wishing to obtain legal status by becoming a party to the proceeding for this project should file with the Federal Energy Regulatory Commission, 888 First Street, NE., Washington, DC 20426, a motion to intervene in accordance with the requirements of the Commission's Rules of Practice and Procedure (18 CFR §§ 385.214 or 385.211) and the Regulations under the NGA (18 CFR 157.10) by the comment date, below. A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene to have comments considered. The second way to participate is by filing with the Secretary of the Commission, as soon as possible, an original and two copies of comments in support of or in opposition to this project and/or associated pipeline. The Commission will consider these comments in determining the appropriate action to be taken, but the filing of a comment alone will not serve to make the filer a party to the proceeding. The Commission's rules require that persons filing comments in opposition to the project provide copies of their protests only to the party or parties directly involved in the protest.

Protests and interventions may be filed electronically via the Internet in lieu of paper; see 18 CFR 285.2001(a)(1)(iii) and the instructions on the Commission's Web site under the “e-filing” link. The Commission strongly encourages electronic filings.

The Commission may issue a preliminary determination on non-environmental issues prior to the completion of its review of the environmental aspects of the project and associated pipeline. This preliminary determination typically considers such issues as the need for the project and its economic effect on existing customers of the applicant, on other pipelines in the area, and on landowners and communities. For example, the Commission considers the extent to which the applicant may need to exercise eminent domain to obtain rights-of-way for the proposed pipeline and balances that against the non-environmental benefits to be provided by the project.

If the Commission decides to set the application for a formal hearing before an Administrative Law Judge, the Commission will issue another notice describing that process. At the end of the Commission's review process, a final Commission order approving or denying a certificate will be issued.

Comment Date: January 22, 2007.

Magalie R. Salas,
Secretary.

[FR Doc. E6-22691 Filed 1-5-07; 8:45 am]

BILLING CODE 6717-01-P